DEPARTMENT OF THE INTERIOR

Fish and Wildlife Service

[FWS-R5-ES-2010-N249; 50120-1113-0000-C2]

Endangered and Threatened Wildlife and Plants; Assisting States, Federal Agencies, and Tribes in Managing White-Nose Syndrome in Bats; Draft National Plan; Extension of Public Comment Period

AGENCY: Fish and Wildlife Service, Interior.

ACTION: Notice of availability; extension of comment period.

SUMMARY: We, the U.S. Fish and Wildlife Service (FWS), are extending the public comment period for the draft national plan to assist States, Federal agencies, and Tribes in managing white-nose syndrome (WNS) in bats. See SUPPLEMENTARY INFORMATION for details. If you have already submitted comments, please do not resubmit them; we have already incorporated them in the public record and will fully consider them in our final decision.

DATES: Submit comments on this document on or before December 26, 2010.

ADDRESSES: Send your written comments on the draft plan, by U.S. mail to Dr. Jeremy Coleman, National WNS Coordinator, U.S. Fish and Wildlife Service, New York Field Office, 3817 Luker Road, Cortland, New York 13045; or by electronic mail to WhiteNoseBats@fws.gov.

FOR FURTHER INFORMATION CONTACT: Dr. Jeremy Coleman, National WNS Coordinator, at the New York Field Office (see ADDRESSES) or by phone at 607-753-9334.

SUPPLEMENTARY INFORMATION: On October 28, 2010, we published a Federal Register notice (75 FR 66387) announcing availability for public review of a draft national plan to assist States, Federal agencies, and Tribes in managing WNS in bats. That notice mistakenly announced a 33-day public comment period instead of a 60-day public comment period. We are extending the public comment period on the draft plan to the originally planned 60 days.

WNS is a fungal disease responsible for unprecedented mortality in hibernating bats in the northeastern United States. It has spread rapidly since its discovery in January 2007, and poses a potentially catastrophic threat to hibernating bats throughout North America, including several species listed as endangered or threatened under the Endangered Species Act (ESA). Listed bats include the Indiana bat (Myotis sodalis), Virginia big-eared bat (Corynorhinus townsendii virginianus), Ozark big-eared bat (Corynorhinus townsendii ingens), and gray bat (Myotis grisescens).

The draft plan was prepared by representatives of the U.S. Department of Agriculture's Animal and Plant Health Inspection Service and Forest Service; U.S. Department of Defense's Army Corps of Engineers; U.S. Department of the Interior's Bureau of Land Management, National Park Service, and FWS; St. Regis Mohawk Tribe; Kentucky Department of Fish and Wildlife Resources; Missouri Department of Conservation; New York State Department of Environmental Conservation; Pennsylvania Game Commission; Vermont Department of Fish and Wildlife; and Virginia Department of Game and Inland Fisheries.

Document Availability

An electronic copy of the draft plan is available online at http://www.fws.gov/WhiteNoseSyndrome/. The document is also available from the FWS's New York Field Office (see ADDRESSES).

Public Availability of Comments

Before including your address, phone number, electronic mail address, or other personal identifying information in your comment, you should be aware that your entire comment—including your personal identifying information—may be made publicly available at any time. While you may ask us in your comment to withhold your personal identifying information from public review, we cannot guarantee that we will be able to do so.

Authority

As a number of federally listed bat species are threatened by WNS, the FWS is issuing this notice primarily under the authority of the ESA of 1973 (16 U.S.C. 1531). This plan is intended to guide recovery of listed bats. It was developed so that it can be easily adopted or incorporated into existing or future recovery plans.

Dated: November 3, 2010.
Wendi Weber,
Deputy Regional Director, Region 5, U.S. Fish and Wildlife Service.

[FR Doc. 2010-29257 Filed 11-18-10; 8:45 am]

BILLING CODE 4510-55-P